FEDERAL DEPOSIT INSURANCE CORPORATION

12 CFR Part 346

RIN 3064-AC33

Disclosure and Reporting of CRA-Related Agreements; Correction

AGENCY: Federal Deposit Insurance Corporation.

ACTION: Final rule; correction.

SUMMARY: This document makes technical corrections to the Federal Deposit Insurance Corporation's version of a final rule issued jointly by the Office of the Comptroller of the Currency, Board of Governors of the Federal Reserve System, Federal Deposit Corporation (FDIC), and the Office of Thrift Supervision. The joint final rule was published Wednesday, January 10, 2001 (66 FR 2052), and concerned the disclosure and reporting of certain agreements related to the Community Reinvestment Act of 1977 (CRA). The FDIC's version of the joint final rule established a new Part 346 to its regulations.

EFFECTIVE DATE: April 1, 2001.

FOR FURTHER INFORMATION CONTACT: A. Ann Johnson, Counsel, Regulation and Legislation Section (202) 898-3573, Federal Deposit Insurance Corporation, 550 17th Street, NW., Washington, DC 20429.

SUPPLEMENTARY INFORMATION:

Background

The rule that is the subject of these corrections implements the CRA sunshine provisions of section 48 of the Federal Deposit Insurance Act and prescribes procedures for the disclosure and reporting of certain covered agreements related to the CRA. The corrections contained in this document will affect only the FDIC's version of the joint final rule.

Because these corrections are technical in nature and have no substantive impact, the FDIC finds that notice and public comment is unnecessary. Further, because the corrections are technical in nature, they are effective upon publication in the Federal Register.

Need for Correction

As published, the FDIC's version of the joint final rule contains technical errors, which may be misleading or confusing and are in need of correction.

Correction of Publication

Accordingly, the FDIC's version of the joint final rule published on January 10, 2001, at 66 FR 2052, is corrected as follows:

§ 346.9 [Corrected]

On page 2105, in the first column, in § 346.9(a)(1), the reference in the third line to “§§ 346.4 or 346.5” is corrected to refer to “§§ 346.6 or 346.7”.

§ 346.11 [Corrected]

On page 2106, in the first column, in § 346.11(j)(2)(iv), the reference in the fifth and sixth lines to “paragraphs (h)(2)(i) through (iii) of this section” is corrected to refer to “paragraphs (j)(2)(i) through (iii) of this section”.

Dated at Washington, DC, this 5th day of March, 2001.
Federal Deposit Insurance Corporation.
Robert E. Feldman,
Executive Secretary.

[FR Doc. 01-5804 Filed 3-8-01; 8:45 am]

BILLING CODE 6714-01-P